DEPARTMENT OF THE INTERIOR

National Park Service

[2031-A046-409]

General Management Plan/Wilderness Study/Off-Road Vehicle Management Plan, Final Environmental Impact Statement, Big Cypress National Preserve Addition, Florida

AGENCY: National Park Service, Interior.

ACTION: Notice of Availability of the Final Environmental Impact Statement for the General Management Plan/Wilderness Study/Off-Road Vehicle Management Plan (FEIS/GMP/WS/ORV Plan), Big Cypress National Preserve (Preserve) Addition.

SUMMARY: Pursuant to 42 U.S.C. 4332(2)(C) of the National Environmental Policy Act of 1969 and National Park Service (NPS) policy in Director's Order Number 2 (Park Planning) and Director's Order Number 12 (Conservation Planning, Environmental Impact Analysis, and Decision-making), the NPS announces the availability of a Final Environmental Impact Statement for the GMP/WS/ORV Plan for the Big Cypress National Preserve Addition, Florida.

The 1991 GMP for the original Preserve contains no guidance for the approximately 147,000 acres added to the Preserve in 1988 by Public Law 100-301 (the Addition). A GMP is needed to clearly define resource conditions and visitor experiences to be achieved in the Addition.

DATES: The National Park Service will execute a Record of Decision (ROD) no sooner than 30 days following publication by the Environmental Protection Agency of the Notice of Availability of the Final Environmental Impact Statement.

ADDRESSES: The document will be available for public review online at http://www.parkplanning.nps.gov/bicy. In addition, a limited number of CDs and hard copies will be made available at Preserve headquarters. You may also request a hard copy or CD by contacting Big Cypress National Preserve, 33100 Tamiami Trail East, Ochopee, Florida 34141-1000; telephone 239-695-1103.

SUPPLEMENTARY INFORMATION: Public scoping was initiated in the summer of 2001. Public meetings and seven newsletters were used to keep the public informed and involved throughout the planning process for the Addition. The Draft GMP/WS/ORV Plan/EIS was distributed to other agencies, interested organizations, and individuals for their review and comment during the summer of 2009. Four public meetings and wilderness hearings were held.

The draft document was revised as a result of public and agency feedback received during the public comment period. The Final GMP/WS/ORV Plan/EIS provides a framework for management, use, and development options for the Addition by the NPS for the next 15 to 20 years. It describes four management alternatives for consideration, including a no-action alternative that continues the current management framework. The three action alternatives present a range of ORV opportunities, proposed wilderness, and visitor facilities. The document analyzes the environmental impacts of the alternatives.

The four alternatives (with names as they appear in the document) are as follows:

Alternative A: No-Action Alternative—the continuation of current management practices and trends. The enabling legislation would be the long-term document to guide management and development of the Preserve.

Alternative B: The concept for management under alternative B would be to enable visitor participation in a wide variety of outdoor recreational experiences. It would nearly maximize motorized access to sustainable trails (up to 132 miles of motorized trails), provide the least amount of proposed wilderness (about 37,567 acres), and develop limited new hiking-only trails. The entire off-road vehicle (ORV) trail system would be implemented without phased establishment and the assessment of monitoring results. New visitor and operations facilities along the I-75 corridor would also be provided.

Preferred Alternative: The preferred alternative would provide diverse frontcountry and backcountry recreational opportunities, enhance day use and interpretive opportunities along road corridors, and enhance recreational opportunities with new facilities and services. This alternative would provide substantial ORV access to sustainable trails (approximately 130 miles of motorized trails), provide a moderate amount of proposed wilderness (about 47,067 acres), provide nonmotorized trail opportunities and new camping opportunities, and develop a partnership approach to visitor orientation. Implementation of the ORV trail system would be phased to ensure protection of sensitive species and the environment. Areas found to be eligible for wilderness designation but not proposed as wilderness would be protected through management zoning that would maintain and protect natural values. New visitor and operations facilities along the I-75 corridor would also be provided.

Alternative F: Alternative F would emphasize resource preservation, restoration, and research while providing recreational opportunities with limited facilities and support. This alternative would provide the maximum amount of wilderness (about 71,260 acres), no ORV use, and minimal new facilities for visitor contact along I-75.

Authority: The authority for publishing this notice is 40 CFR 1506.6.

FOR FURTHER INFORMATION CONTACT: Big Cypress National Preserve at the address and telephone number shown above.

The responsible official for this Final EIS is the Regional Director, Southeast Region, NPS, 100 Alabama Street, SW., 1924 Building, Atlanta, Georgia 30303.

Dated: November 18, 2010.
Gayle Hazelwood,
Acting Regional Director, Southeast Region, National Park Service.

[FR Doc. 2010-29769 Filed 11-22-10; 4:15 pm]

BILLING CODE 4310-V6-P